DEPARTMENT OF THE INTERIOR

National Park Service

[N6575; NPS-WASO-NAGPRA-NPS0041196; PPWOCRADN0-PCU00RP14.R50000]

Notice of Intended Repatriation: New York State Museum, Albany, NY

AGENCY: National Park Service, Interior.

ACTION: Notice.

SUMMARY: In accordance with the Native American Graves Protection and Repatriation Act (NAGPRA), the New York State Museum intends to repatriate certain cultural items that meet the definition of unassociated funerary objects and that have a cultural affiliation with the Indian Tribes or Native Hawaiian organizations in this notice.

DATES: Repatriation of the cultural items in this notice may occur on or after December 17, 2025.

ADDRESSES: Send additional, written requests for repatriation of the cultural items in this notice to Lisa Anderson, New York State Museum, 3049 Cultural Education Center, Albany, NY 12230, email lisa.anderson@nysed.gov.

SUPPLEMENTARY INFORMATION: This notice is published as part of the National Park Service's administrative responsibilities under NAGPRA. The determinations in this notice are the sole responsibility of the New York State Museum, and additional information on the determinations in this notice, including the results of consultation, can be found in the summary or related records. The National Park Service is not responsible for the determinations in this notice.

Abstract of Information Available

A total of 324 cultural items have been requested for repatriation. The 324 unassociated funerary objects are three flakes, 26 micro flakes, 79 chipped stone particles, one small pottery sherd, seven pottery particles, 49 calcined bone particles, two tiny fish bones, 18 charcoal samples, 18 shell particles, one cracked rock fragment, one glass fragment, four glass particles, one stoneware fragment, 19 brick particles, 12 coal particles, 72 slag particles, and 11 mortar particles from 18 processed flotation soil samples from the village of Waterford, Saratoga County, NY, acquired from Hartgen Archaeological Associates, Inc. in 2013.

Determinations

The New York State Museum has determined that:

• The 324 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 17, 2025. If competing requests for repatriation are received, the New York State Museum must determine the most appropriate requestor prior to repatriation. Requests for joint repatriation of the cultural items are considered a single request and not competing requests. The New York State Museum is responsible for sending a copy of this notice to the Indian Tribes and Native Hawaiian organizations identified in this notice and to any other consulting parties.

Authority: Native American Graves Protection and Repatriation Act, 25 U.S.C. 3004 and the implementing regulations, 43 CFR 10.9.

Dated: September 18, 2025.
Melanie O'Brien,
Manager, National NAGPRA Program.

[FR Doc. 2025-19965 Filed 11-14-25; 8:45 am]

BILLING CODE 4312-52-P